DEPARTMENT OF TRANSPORTATION

Federal Aviation Administration

Proposed Modification of the Memphis Class B Airspace Area, TN

AGENCY: Federal Aviation Administration (FAA), DOT.

ACTION: Notice of public meetings; correction.

SUMMARY: This notice corrects the date comments are to be received after the two fact-finding informal airspace meetings (65 FR 13818, March 14, 2000). The purpose of these meetings is to provide interested parties an opportunity to present views, recommendations, and comments on the proposal to modify the Memphis Class B Airspace Area. All comments received during these meetings will be considered prior to any revision or issuance of a notice of proposed rulemaking.

TIMES AND DATES: Meetings. These informal airspace meetings will be held on Thursday, April 27, 2000, at 7 pm; and Thursday, May 4, 2000, at 7 pm. The comments were originally requested by March 30, 2000. However, an error was inadvertently made in the month. Comments must be received by June 5, 2000, in lieu of March 30, 2000.

ADDRESSES: On April 27, 2000, the meeting will be held at the FedEx World Tech Center, 50 FedEx Parkway (off Bailey Station Road), Collierville, TN. On May 4, 2000, the meeting will be held at the Memphis Airport Traffic Control Tower, Memphis, International Airport, 2515 Winchester Road, Memphis, TN. There is limited space available at the May 4th meeting.

Comments: Send comments on the proposal in triplicate to: Manager, Air Traffic Division, ASO-500, Federal Aviation Administration, 1701 Columbia Ave., College Park, GA 30337.

FOR FURTHER INFORMATION CONTACT: Brigitte Lewkowicz, Airspace Specialist, Air Traffic Division, ASO-500, FAA, Southern Regional Office, telephone (404) 305-5559.

SUPPLEMENTARY INFORMATION:

Meeting Procedures

(a) These meetings will be informal in nature and will be conducted by a representative of the FAA, Southern Region. A representative from the FAA will present a formal briefing on the proposed changes to the Class B airspace area. Each participant will be given an opportunity to deliver comments or make a presentation at the meetings.

(b) These meetings will be open to all persons on a space-available basis. There will be no admission fee or other charge to attend and participate.

(c) Any person wishing to make a presentation to the FAA panel will be asked to sign in and estimate the amount of time needed for such presentation. This will permit the panel to allocate an appropriate amount of time for each presenter.

(d) These meetings will not be adjourned until everyone on the list has had an opportunity to address the panel.

(e) Position papers or other handout material relating to the substance of these meetings will be accepted. Participants wishing to submit handout material should present three copies to the presiding officer. There should be additional copies of each handout available for other attendees.

(f) These meetings will not be formally recorded.

Agenda for the Meetings

Opening Remarks and Discussion of Meeting Procedures.

Briefing on Background for Proposals.

Public Presentations.

Closing Comments.

Issued in Washington, DC, on March 15, 2000.
Steve Rohring,
Acting Manager, Airspace and Rules Division.

[FR Doc. 00-7192 Filed 3-29-00; 8:45 am]

BILLING CODE 4910-13-P